PRESIDIO TRUST

Notice of Receipt of and Availability for Public Comment on an Application for Wireless Telecommunications Facilities Site; The Presidio of San Francisco, California

AGENCY: The Presidio Trust.

ACTION: Public notice.

SUMMARY: This notice announces the Presidio Trust's receipt of and availability for public comment on an application from GTE Mobilnet of California d/b/a Verizon Wireless for colocation at an existing wireless telecommunications facilities site (“Project”) in The Presidio of San Francisco. The proposed location of the Project is in the vicinity of 1255 Armistead Road.

The Project involves (i) replacing an existing utility pole (installed by AT&T Wireless) with a taller pole to accommodate two additional antenna panels, and (ii) placing the associated radio equipment within a new prefabricated equipment shelter. The utility pole will be approximately 60 feet tall, 10 feet taller than the existing AT&T Wireless pole. Power for the project will be provided through underground coaxial cables connected to existing power sources. Connection to telephone lines will be through existing telephone lines.

COMMENTS: Comments on the proposed project must be sent to Celeste Evans, Presidio Trust, 34 Graham Street, P.O. Box 29052, San Francisco, CA 94129-0052, and be received by September 24, 2001. A copy of Verizon's application is available upon request to the Presidio Trust.

FOR FURTHER INFORMATION CONTACT: Celeste Evans, Presidio Trust, 34 Graham Street, P.O. Box 29052, San Francisco, CA 94129-0052. Email: cevans@presidiotrust.gov. Telephone: 415-561-5300.

Dated: August 16, 2001.
Karen A. Cook,
General Counsel.

[FR Doc. 01-21139 Filed 8-21-01; 8:45 am]

BILLING CODE 4310-4R-U